DEPARTMENT OF THE TREASURY

Office of the Comptroller of the Currency

FEDERAL DEPOSIT INSURANCE CORPORATION

DEPARTMENT OF THE TREASURY

Office of Thrift Supervision

Agency Information Collection Activities; Proposed Revision of Information Collection; Comment Request

AGENCIES: Office of the Comptroller of the Currency (OCC), Treasury; Federal Deposit Insurance Corporation (FDIC); and Office of Thrift Supervision (OTS), Treasury.

ACTION: Joint notice and request for comment.

SUMMARY: The OCC, FDIC, and OTS (collectively the Agencies), as part of their continuing effort to reduce paperwork and respondent burden, invite the general public and other Federal agencies to comment on proposed and/or continuing information collections, as required by the Paperwork Reduction Act of 1995. The Agencies may not conduct or sponsor, and the respondent is not required to respond to, an information collection unless it displays a currently valid Office of Management and Budget (OMB) control number. The Agencies are soliciting comment on proposed revisions to the charter application of the OCC and OTS and to the FDIC's deposit insurance application. The proposed form will make the application forms uniform among the Agencies and is titled, “Interagency Charter and Federal Deposit Insurance Application.” In the case of the OCC, this collection is a part of the Comptroller's Corporate Manual. Additionally, the OCC is making other clarifying changes to the Comptroller's Corporate Manual.

DATES: You should submit comments by November 19, 2001.

ADDRESSES: Interested parties are invited to submit comments to any or all of the Agencies. All comments, which should refer to the OMB control number, will be shared among the Agencies.

OCC: Office of the Comptroller of the Currency, Public Information Room, 250 E Street, SW, Mail Stop 1-5, Attention: 1557-0014, Washington, DC 20219. You may make an appointment to inspect and photocopy comments at the same location by calling (202) 874-5043. In addition, you may fax your comments to (202) 874-4448 or e-mail them to regs.comments@occ.treas.gov.

FDIC: Tamara R. Manly, Management Analyst (Regulatory Analysis), Office of Executive Secretary, Room F-4058, Attention: Comments/OES, Federal Deposit Insurance Corporation, 550 17th Street, NW, Washington, DC 20429. All comments should refer to “Interagency Charter and Federal Deposit Insurance Application.” Comments may be hand-delivered to the guard station at the rear of the 550 17th Street Building (located on F Street), on business days between 7 a.m. and 5 p.m. [FAX number (202) 898-3838; Internet address: comments@fdic.gov. Comments may be inspected and photocopied in the FDIC Public Information Center, Room 100, 801 17th Street, NW., Washington, DC between 9 a.m. and 4:30 p.m. on business days.

A copy of the comments may also be submitted to the OMB desk officer for the agencies: Alexander T. Hunt, Office of Information and Regulatory Affairs, Office of Management and Budget, New Executive Office Building, Room 3208, Washington, DC 20503.

OTS: Information Collection Comments, Chief Counsel's Office, Office of Thrift Supervision, 1700 G Street, NW, Washington, DC 20552, Attention: 1550-0005, FAX Number (202) 906-6518, or e-mail to infocollection.comments@ots.treas.gov.

Public Inspection: Comments and the related index will be posted on the OTS Internet Site at www.ots.treas.gov. In addition, interested persons may inspect comments at the Public Reference Room, 1700 G Street, NW, by appointment. To make an appointment, call (202) 906-5922, send an e-mail to publicinfo@ots.treas.gov, or send a facsimile transmission to (202) 906-7755. (Prior notice identifying the materials you will be requesting will assist us in serving you.) Appointments will be scheduled on business days between 10 a.m. and 4 p.m. In most cases, appointments will be available the next business day following the date we receive your request.

FOR FURTHER INFORMATION CONTACT: You can request additional information from:

OCC: Jessie Dunaway, OCC Clearance Officer, or Camille Dixon, (202) 874-5090, Legislative and Regulatory Activities Division, Office of the Comptroller of the Currency, 250 E Street, SW, Washington, DC 20219. For subject matter information, you may contact Cheryl Martin at (202) 874-4614, Licensing, Policy, and Systems, Licensing Department, Office of the Comptroller of the Currency, 250 E Street, SW, Washington, DC 20219.

FDIC: Tamara R. Manly, Management Analyst (Regulatory Analysis), (202) 898-7453, Office of the Executive Secretary, Federal Deposit Insurance Corporation, 550 17th Street, NW, Washington, DC 20429.

OTS: Sally W. Watts, OTS Clearance Officer, (202) 906-7380; Frances C. Augello, Senior Counsel, Business Transactions Division, (202) 906-6151; Patricia D. Goings, Financial Analyst, Examination Policy, (202) 906-5668; or Damon C. Zaylor, Financial Analyst, Examination Policy, (202) 906-6787, Office of Thrift Supervision, 1700 G Street, NW, Washington, DC 20552.

SUPPLEMENTARY INFORMATION: Title: Interagency Charter and Federal Deposit Insurance Application.

OCC's Title: Comptroller's Corporate Manual. The specific portions of the Comptroller's Corporate Manual (Manual) covered by this notice are those that pertain to the Charter Application located in the Charters booklet of the Manual, which will become an interagency form.

OMB Number:

OCC: 1557-0014.

FDIC: 3064-0001.

OTS: 1550-0005.

Form Number:

OCC: None.

FDIC: 6200/05.

OTS: 138.

Description: This submission replaces the following forms—

OCC: None.

FDIC: “Application for Federal Deposit Insurance.”

OTS: “Application for Permission to Organize.”

Abstract: This submission covers a revision to the charter applications of the OCC and OTS and the deposit insurance application of the FDIC. The proposed form will make the application form uniform among the Agencies and is titled “Interagency Charter and Federal Deposit Insurance Application.” The Agencies need the information to ensure that the covered proposed activities are permissible under law and regulation and are consistent with safe and sound banking practices. For example, the Agencies are required to consider financial and managerial resources, future earnings prospects, and community reinvestment. Further, the Agencies use the information to evaluate specific individuals' qualifications. Both financial institutions and individuals organizing a financial institution must provide this information.

Further, the OCC is making a change to its Charters booklet of the Manual, adding the interagency application form and providing updated information about filing for a national bank charter. The OCC is also making technical and clarifying changes to various Manual booklets. For example, the OCC is making changes to its Branches and Relocations booklet, clarifying the information needed to establish a limited branch office. These changes are not material and are technical in nature. These changes are an administrative adjustment, and do not change, in any way, the requirements on national banks.

Type of Review: Revision of a currently approved collection.

Affected Public: Individuals or households; Businesses or other for-profit.

Estimated Number of Respondents:

OCC: 50.

FDIC: 200.

OTS: 20.

Estimated Frequency of Response: One time.

Estimated Burden Hours per Response:

OCC: 125.

FDIC: 125.

OTS: 125.

Estimated Total Burden:

OCC: 6,250.

FDIC: 25,000.

OTS: 2,700.

Comments: Comments submitted in response to this notice will be summarized in each Agency's request for OMB approval, and analyzed to determine the extent to which the collection should be modified. All comments will become a matter of public record.

Written comments are invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: September 7, 2001.
Mark J. Tenhundfeld,
Assistant Director, Legislative and Regulatory Activities Division, Office of the Comptroller of the Currency.

Dated at Washington, DC, this 7th day of September, 2001.

Federal Deposit Insurance Corporation.

Robert E. Feldman,

Executive Secretary.

Dated: September 7, 2001.

Deborah Dakin,

Deputy Chief Counsel, Regulations & Legislation Division, Office of Thrift Supervision.

[FR Doc. 01-23191 Filed 9-17-01; 8:45 am]

BILLING CODE 4810-33, 6720-01, 6714-01-P